ARCHITECTURAL AND TRANSPORTATION BARRIERS COMPLIANCE BOARD

36 CFR Part 1191

[Docket No. 98-2]

RIN 3014-AA21

Americans with Disabilities Act (ADA) Accessibility Guidelines for Buildings and Facilities; Play Areas

AGENCY: Architectural and Transportation Barriers Compliance Board.

ACTION: Amendment to advisory note.

SUMMARY: The Architectural and Transportation Barriers Compliance Board (Access Board) is amending an advisory note to the accessibility guidelines for play areas. The amended advisory note clarifies that play components that are attached to a composite play structure and can be approached from a platform or deck (e.g., climbers and overhead play components), are elevated play components. These play components are not considered ground level play components also, and do not count toward meeting the number of ground level play components that must be located on an accessible route.

DATES: The amendment is effective December 20, 2000.

FOR FURTHER INFORMATION CONTACT: Peggy Greenwell, Office of Technical and Information Services, Architectural and Transportation Barriers Compliance Board, 1331 F Street, NW., suite 1000, Washington, DC 20004-1111. Telephone number (202) 272-5434 extension 134 (Voice); (202) 272-5449 (TTY). E-mail address: greenwell@access-board.gov.

SUPPLEMENTARY INFORMATION:

Availability of Copies and Electronic Access

Single copies of this document may be obtained at no cost by calling the Access Board's automated publications order line (202) 272-5434, by pressing 2 on the telephone keypad, then 1, and requesting publication S-42 (Play Areas Final Rule, Amended Appendix Note). Persons using a TTY should call (202) 272-5449. Please record a name, address, telephone number and request publication S-42. This document is available in alternate formats upon request. Persons who want a copy in an alternate format should specify the type of format (cassette tape, Braille, large print, or ASCII disk). This document is also available on the Board's Internet site (http://www.access-board.gov/play/finalrule-aan.htm).

Background

On October 18, 2000, the Access Board issued final accessibility guidelines for play areas. 65 FR 62498 (October 18, 2000). The guidelines serve as the basis for enforceable standards to be adopted by the Department of Justice for new construction and alterations of play areas covered by the Americans with Disabilities Act. The guidelines distinguish between ground level and elevated play components, and provide that a minimum number of ground level and elevated play components must be located on an accessible route.

The appendix to the guidelines contains advisory notes to assist in understanding the guidelines. Advisory note A15.6.3 addresses elevated play components that are attached to a composite play structure. As originally issued, the advisory note used the example of a climber attached to a composite play structure. The advisory note stated that the climber may be considered either a ground level or elevated play component. The advisory note explained that if an accessible route is provided to the base of the climber and to the top of the climber, and the climber is counted toward meeting the number of elevated play components on an accessible route, the same climber cannot be counted toward meeting the number of ground level play components on an accessible route. The purpose of the advisory note was to clarify that such play components cannot be “double-counted” as both ground level and elevated play components. However, if climbers and other overhead play components that are attached to a composite play structure are counted as ground level play components, instead of elevated play components, it would result in significantly less access in play areas. Fewer ground level and elevated play components would have to be located on an accessible route; ramp access would be more limited; and there would be less diversity in the types of ground level play components provided. The advisory note was not intended to create a “loophole” for evading the guidelines. The economic assessment, which analyzed the impact of the guidelines, counted climbers and overhead play components attached to a composite play structure as elevated play components. Play equipment manufacturers and operators, who have followed the guidelines on a voluntary basis prior to their adoption as enforceable standards by the Department of Justice, have counted climbers and overhead play components attached to a composite play structure as elevated play components. Accordingly, the amended advisory note states that play components that are attached to a composite play structure and can be approached from a platform or deck (e.g., climbers or overhead play components), are considered elevated play components. The amended advisory note further states that these play components are not considered ground level play components also, and do not count toward meeting the number of ground level play components that must be located on an accessible route.

List of Subjects in 36 CFR Part 1191

Buildings and facilities, Civil rights, Individuals with disabilities, Transportation.

Thurman M. Davis, Sr.,
Chair, Architectural and Transportation Barriers Compliance Board.

For the reasons set forth above, part 1191 of Title 36 of the Code of Federal Regulations is amended as follows:

PART 1191—AMERICANS WITH DISABILITIES ACT (ADA) ACCESSIBILITY

Guidelines for Buildings and Facilities

1. The authority citation for 36 CFR part 1191 continues to read as follows:

Authority: 42 U.S.C. 12204.

1191 Appendix A [Amended]

2. In Part 1191, the appendix to Appendix A is amended by revising pages A22, A23 and A24 to read as follows:

Appendix A to Part 1191—Americans with Disabilities Act (ADA) Accessibility Guidelines for Buildings and Facilities

* * * * *

BILLING CODE 8150-01-P

[FR Doc. 00-29599 Filed 11-17-00; 8:45 am]

BILLING CODE 8150-01-C